MORRIS K. UDALL SCHOLARSHIP AND EXCELLENCE IN NATIONAL ENVIRONMENTAL POLICY FOUNDATION

Notice of Federal Advisory Committee Meeting

AUTHORITY: 5 U.S.C. Appendix; 20 U.S.C. 5601-5609.

AGENCY: U.S. Institute for Environmental Conflict Resolution, Morris K. Udall Foundation

ACTION: Notice of meeting.

SUMMARY: The National Environmental Conflict Resolution (ECR) Advisory Committee, of the U.S. Institute for Environmental Conflict Resolution, will conduct a public meeting on Tuesday and Wednesday, November 19-20, 2002, at the Pima-Catalina meeting rooms of the Windmill Inn of Tucson, 4250 N. Campbell Avenue, Tucson, AZ 85718. The meeting will occur from 8 a.m. to approximately 5 p.m. on November 19, and from 8 a.m. to approximately 3 p.m. on November 20.

Members of the public may attend the meeting in person. Seating is limited and is available on a first-come, first-served basis. During this meeting, the Committee will discuss: Committee organizational details; background on the Institute; opportunities and challenges for the Institute; use of ECR processes and collaborative decision making in relation to National Environmental Policy Act requirements; best practices for ECR; and follow-up work for the Committee and Institute staff. A site visit and discussion of natural resource management and NEPA during the afternoon of November 19, 2002, is anticipated. The location of the site visit will be announced at the meeting.

Members of the public may make oral comments at the meeting or submit written comments. In general, each individual or group making an oral presentation will be limited to five minutes, and total oral comment time will be limited to one-half hour each day. Written comments may be submitted by mail or by e-mail to memerson@ecr.gov. Written comments received in the Institute office far enough in advance of a meeting may be provided to the Committee prior to the meeting; comments received too near the meeting date to allow for distribution will normally be provided to the Committee at the meeting. Written comments may be provided to the Committee until the time of the meeting. Comments submitted during or after the meeting will be accepted but may not be provided to the Committee until after that meeting.

FOR FURTHER INFORMATION: Any member of the public who desires further information concerning the meeting or wishes to submit oral or written comments should contact Melanie Emerson, Program Associate, U.S. Institute for Environmental Conflict Resolution, 110 S. Church Avenue, Suite 3350, Tucson, AZ 85701; phone (520) 670-5299, fax (520) 670-5530, or e-mail at memerson@ecr.gov. Requests to make oral comments must be in writing (or by e-mail) to Ms. Emerson and be received no later than 5 p.m. Mountain Standard Time on Tuesday, November 12, 2002. Copies of the draft meeting agenda may be obtained from Ms. Emerson at the address, phone and e-mail address listed above.

Dated: October 24, 2002.
Christopher L. Helms,
Executive Director, Morris K. Udall Scholarship and Excellence in National Environmental Policy Foundation, and Federal Register Liaison Officer.

[FR Doc. 02-27651 Filed 10-30-02; 8:45 am]

BILLING CODE 6820-FN-P